DEPARTMENT OF TRANSPORTATION

Federal Aviation Administration

14 CFR Part 39

[Docket No. FAA-2014-0903; Directorate Identifier 2013-SW-043-AD]

RIN 2120-AA64

Airworthiness Directives; Airbus Helicopters Deutschland GmbH (Previously Eurocopter Deutschland GmbH) (Airbus Helicopters)

AGENCY: Federal Aviation Administration (FAA), DOT.

ACTION: Notice of proposed rulemaking (NPRM).

SUMMARY: We propose to adopt a new airworthiness directive (AD) for Airbus Helicopters Model EC135P1, EC135P2, EC135P2+, EC135T1, EC135T2, and EC135T2+ helicopters. This proposed AD would require reducing the life limit of certain parts and removing each part that has reached its life limit. The proposed actions are intended to reduce the life limits of certain critical parts to prevent failure of a part and subsequent loss of control of the helicopter.

DATES: We must receive comments on this proposed AD by January 12, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

FOR FURTHER INFORMATION CONTACT: Matt Fuller, Senior Aviation Safety Engineer, Safety Management Group, Rotorcraft Directorate, FAA, 2601 Meacham Blvd., Fort Worth, Texas 76137; telephone (817) 222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, issued EASA AD No. 2013-0178, dated August 7, 2013, to correct an unsafe condition for the Eurocopter Deutschland GmbH (ECD) (now Airbus Helicopters) Model EC135P1, EC135P2, EC135P2+, EC135T1, EC135T2, EC135T2+, EC635T1, EC635P2+, and EC635T2+ helicopters. EASA advises that ECD has revised the airworthiness limitations for the EC135 and EC635 type design as published in the Master Servicing Manual (MSM) EC135 Chapter 04—Airworthiness Limitations Section (ALS) documents. Revision 14 of the MSM contains these new airworthiness limitations. EASA states that failure to comply with these limitations could result in an unsafe condition. For these reasons, EASA AD No. 2013-0178 requires revising the ALS to include the new life limits and replacing each part that has reached its life limit.

FAA's Determination

These helicopters have been approved by the aviation authority of Germany and are approved for operation in the United States. Pursuant to our bilateral agreement with Germany, the EASA, its technical representative, has notified us of the unsafe condition described in its AD. We are proposing this AD because we evaluated all known relevant information and determined that an unsafe condition is likely to exist or develop on other products of the same type design.

Related Service Information

The airworthiness limitations and maintenance procedures for certain parts are contained in the Airworthiness Limitations section, Chapter 4, of Eurocopter's MSM EC135, dated December 1, 2001. Revision 14 of the MSM, dated July 1, 2012, establishes a life limit for certain part-numbered main rotor blades and reduces the life limits for swashplate and mixing lever gear unit parts.

Proposed AD Requirements

This proposed AD would require, before further flight, revising the ALS of the applicable maintenance manual and the component history card or equivalent record by reducing the life limit for various parts and removing from service any part that has reached its life limit.

Differences Between This Proposed AD and the EASA AD

This proposed AD does not apply to Airbus Helicopters Model EC635T1, P2+, or EC635T2+ helicopters because those helicopters are not type certificated in the U.S.

Costs of Compliance

We estimate that this proposed AD would affect 267 helicopters of U.S. Registry.

We estimate that operators may incur the following costs in order to comply with this AD. Labor costs are estimated at $85 per hour. We estimate 2 work hours to update the maintenance manual for a total cost of $170 for each helicopter and $45,390 for the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters Deutschland GmbH (Previously Eurocopter Deutschland GmbH): Docket No. FAA-2014-0903; Directorate Identifier 2013-SW-043-AD.

(a) Applicability

This AD applies to Model EC135P1, EC135P2, EC135P2+, EC135T1, EC135T2, and EC135T2+ helicopters, certificated in any category.

(b) Unsafe Condition

This AD defines the unsafe condition as failure of a critical part, which could result in loss of control of the helicopter.

(c) Comments Due Date

We must receive comments by January 12, 2015.

(d) Compliance

You are responsible for performing each action required by this AD within the specified compliance time unless it has already been accomplished prior to that time.

(e) Required Actions

Before further flight:

(1) Revise the life limit of each part listed in paragraphs (e)(1)(i) through (ii) in the Airworthiness Limitations Section of the applicable maintenance manual and record the revised life limit on the component history card or equivalent record as follows:

(i) For swashplate parts:

(A) Ring (bearing ring), part number (P/N) L623M2001214, reduce the life limit from 8,300 hours time-in-service (TIS) to 8,000 hours TIS.

(B) Ring (control ring), P/N L623M2001213, reduce the life limit from 8,300 hours TIS to 8,000 hours TIS.

(C) Cardan ring (two-part), P/N L623M2005205, reduce the life limit from 14,400 hours TIS to 12,900 hours TIS.

(D) Bolt (control ring), P/N L671M7001215, reduce the life limit from 14,400 hours TIS to 12,900 hours TIS.

(E) Bolt (sliding sleeve), P/N L623M2006206 and P/N L623M2006213, reduce the life limit from 14,400 hours TIS to 12,900 hours TIS.

(ii) For mixing lever gear unit parts:

(A) Forked lever assembly, P/N L671M3012102, reduce the life limit from 9,000 hours TIS to 8,700 hours TIS.

(B) Hinged support, P/N L671M7003210, reduce the life limit from 8,700 hours TIS to 8,400 hours TIS.

(C) Bolt, P/N L671M7001220, reduce the life limit from 8,700 hours TIS to 8,400 hours TIS.

(2) Remove from service any part listed in paragraph (e)(1) of this AD that has reached or exceeded its newly revised life limit.

(f) Special Flight Permit

Special flight permits are limited to a one-time flight to a maintenance facility to replace a part that has reached its life limit.

(g) Alternative Methods of Compliance (AMOCs)

(1) The Manager, Safety Management Group, FAA, may approve AMOCs for this AD. Send your proposal to: Matt Fuller, Senior Aviation Safety Engineer, Safety Management Group, Rotorcraft Directorate, FAA, 2601 Meacham Blvd., Fort Worth, Texas 76137; telephone (817) 222-5110; email matthew.fuller@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

The subject of this AD is addressed in European Aviation Safety Agency (EASA) AD 2013-0178, dated August 7, 2013. You may view the EASA AD on the Internet at http://www.regulations.gov in Docket No. FAA-2014-0903.

(i) Subject

Joint Aircraft Service Component (JASC) Code: 6300, 2700 Swashplate Ring, Cardan Ring, Bolt, Mixing Lever Gear Unit (flight controls).

Issued in Fort Worth, Texas, on October 28, 2014.
Kim Smith,
Manager, Rotorcraft Directorate, Aircraft Certification Service.

[FR Doc. 2014-26836 Filed 11-12-14; 8:45 am]

BILLING CODE 4910-13-P